FEDERAL COMMUNICATIONS COMMISSION

47 CFR Part 4

[PS Docket Nos. 15-80 and 13-75, ET Docket No. 04-35; FCC 22-88; PS Docket Nos. 23-5 and 15-80, WC Docket No. 18-336; FCC 23-57; FR ID 267131]

Disruptions to Communications; Improving 911 Reliability; Ensuring the Reliability and Resiliency of the 988 Suicide & Crisis Lifeline; Rules Concerning Disruptions to Communications; Implementation of the National Suicide Hotline Improvement Act of 2018

AGENCY: Federal Communications Commission.

ACTION: Final rule; announcement of effective date.

SUMMARY: In this document, the Federal Communications Commission (“FCC” or “Commission”) announces that the Office of Management and Budget (OMB) has approved, for a period of three years, the information collection associated with the Commission's Second Report and Order in PS Docket Nos. 15-80 and 13-75, ET Docket No. 04-35, FCC 22-88 (2022 Second Report and Order), and the Commission's Report and Order in PS Docket Nos. 23-5 and 15-80, WC Docket No. 18-336, FCC 23-57 (2023 Report and Order). This document is consistent with the 2022 Second Report and Order and 2023 Report and Order, which stated that the Commission would publish a document in the Federal Register announcing the effective date of the new information collection requirements.

DATES: The amendments to 47 CFR 4.9 (amendatory instruction 3) published at 88 FR 9756, February 15, 2023, and the amendments to 47 CFR 4.9 (amendatory instruction 4) published at 89 FR 2503, January 16, 2024, are effective April 15, 2025.

FOR FURTHER INFORMATION CONTACT:

Tara Shostek, Attorney Advisor, Public Safety and Homeland Security Bureau, at (202) 418-8130, or by email, at tara.shostek@fcc.gov.

For additional information concerning the Paperwork Reduction Act information collection requirements, contact Nicole Ongele at (202) 418-2991 or via email: Nicole.Ongele@fcc.gov.

SUPPLEMENTARY INFORMATION: This document announces that, on November 5, 2024, OMB approved, until November 30, 2027, the information collection requirements adopted in (i) the Commission's Second Report and Order (2022 Second Report and Order) in PS Docket Nos. 15-80 and 13-75, ET Docket No. 04-35, FCC 22-88, adopted on November 17, 2022, and released on November 18, 2022, and, (ii) the Commission's Report and Order (2023 Report and Order) in PS Docket Nos. 23-5 and 15-80, WC Docket No. 18-336, FCC 23-57, adopted on July 20, 2023, and released on July 21, 2023.

In the 2022 Second Report and Order, the Commission adopted rule amendments to 47 CFR 4.9 (by revising paragraphs (a)(4) and (c)(2)(iv); adding a heading for paragraph (e); and revising paragraphs (e)(1)(v), (f)(4), (g)(1)(i), and (h)) that required review by OMB pursuant to the Paperwork Reduction Act (PRA). Those amendments were included in the Final Rules section of 2022 Second Report and Order with an amendatory instruction that they be delayed indefinitely (because they required OMB approval before they could be made effective). The 2023 Report and Order also adopted amendments to 47 CFR 4.9 (by revising paragraphs (a)(4), (c)(2)(iv), (e)(1)(v), (f)(4), and (g)(1)(i) and adding paragraph (i)) that required review by OMB pursuant to the PRA. Those amendments were included in the Final Rules section of 2023 Report and Order with an amendatory instruction that they be delayed indefinitely (because they required OMB approval before they could be made effective). The amendments to § 4.9 adopted in the 2023 Report and Order are additive to and to not conflict with the amendments to § 4.9 adopted in the 2022 Second Report and Order.

The amendments identified herein adopted in the 2022 Second Report and Order and 2023 Report and Order were submitted for OMB review as a single information collection. Because OMB has approved this information collection, the Commission is setting an effective date for the above-cited rule revisions of 120 days following publication of this document in the Federal Register.

If you have any comments on the burden estimates listed below, or how the Commission can improve the collections and reduce any burdens cause thereby, please contact Nicole Ongele, Federal Communications Commission, 45 L Street NE, Washington, DC 20554. Please include OMB Control Number, 3060-0484, in your correspondence. The Commission will also accept your comments via email at PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received final OMB approval on November 5, 2024, for the information collection requirements contained in the modifications to the Commission's rules in 47 CFR part 4.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0484.

The foregoing notification is required by the Paperwork Reduction Act of 1995, Public Law 104-13, October 1, 1995, and 44 U.S.C. 3507.

The total annual reporting burdens and costs for the respondents are as follows:

OMB Control Number: 3060-0484.

OMB Approval Date: November 5, 2024.

OMB Expiration Date: November 30, 2027.

Title: Part 4 of the Commission's Rules Concerning Disruptions to Communications.

Form Number: N/A.

Respondents: Business or other for-profit; Not-for-profit institutions; State, Local or Tribal Government.

Number of Respondents and Responses: 3,224 respondents; 201,848 responses.

Estimated Time per Response: 1 hour-2 hours (average per response).

Frequency of Response: On occasion and Annual Reporting Requirements and Recordkeeping Requirement.

Obligation to Respond: Mandatory and Voluntary. The statutory authority for this information collection is contained in sections in sections 1, 4(i), 4(j), 4(n), 4(o), 201(b), 214, 218, 251(e)(3), 251(e)(4), 254, 301, 303(b), 303(g), 303(r), 307, 309(a), 309(j), 316, 332, and 403 of the Communications Act of 1934, as amended, and section 706 of the Telecommunications Act of 1996, 47 U.S.C. 151, 154(i)-(j), (n), & (o), 201(b), 214, 218, 251(e)(3), 251(e)(4), 254, 301, 303(b), 303(g), 303(r), 307, 309(a), 332, 403, 615, 615a-1, and 1302.

Total Annual Burden: 398,319 hours.

Total Annual Cost: No Cost.

Needs and Uses: Through this information collection, data received facilitates the Commission's monitoring, analysis, and investigation of the reliability and security of voice, paging, and interconnected voice over internet protocol communications services. Data received through this information collection also helps the Commission identify and act on potential threats to our Nation's telecommunications infrastructure. Moreover, the Commission uses this information collection to identify the duration, magnitude, root causes, contributing factors with respect to significant outages; and to identify outage trends; support service restoration efforts; and help coordinate with public safety officials during times of crisis. The Commission uses the information collection to draw lessons learned in order to foster a better understanding of significant outages' root causes, and to explore preventive measures in the future so as to mitigate the potential scale and impact of such outages.

Harmonizing the existing notification requirements for covered 911 service providers and originating service providers (OSPs) will simplify compliance for providers and reduce confusion for 911 special facilities. Among other harmonization requirements, the initial notification requirements are intended to provide preliminary notice of a potential problem to a 911 special facility so that the 911 special facility can, as quickly as possible, mitigate the impacts of the outage, and alert the public to alternative means of emergency services.

The new requirement that covered 988 service providers and OSPs notify 988 special facilities about outages that potentially affect them serves these same purposes with respect to the availability of the 988 Lifeline, including providing notice to the Substance Abuse and Mental Health Services Administration, the Veterans Affairs Administration, and the 988 Lifeline administrator when an outage that potentially affects a 988 special facility occurs.

Federal Communications Commission.
Marlene Dortch,
Secretary, Office of the Secretary.

[FR Doc. 2024-29154 Filed 12-13-24; 8:45 am]

BILLING CODE 6712-01-P